DEPARTMENT OF DEFENSE

Department of Army

Armed Forces Institute of Pathology Scientific Advisory Board

AGENCY: Department of the Army, DoD.

ACTION: Notice of open meeting.

SUMMARY: In accordance with 10(a)(2) of the Federal Advisory Committee Act (Pub. L. 92-463) announcement is made of the following open meeting:

Name of Committee: Scientific Advisory Board (SAB).

Dates of Meeting: May 13-14, 2004.

Place: The Armed Forces Institute of Pathology (AFIP), Building 54, 14th St. & Alaska Ave., NW., Washington, DC 20306-6000.

Time: 8:30 a.m.-5 p.m. (May 13, 2004).

8:30 a.m.-12 p.m. (May 14, 2004).

FOR FURTHER INFORMATION CONTACT: Mr. Ridgely Rabold, Office of the Principal Deputy Director (PDD), AFIP, Building 54, Washington, DC 20306-6000, phone (202) 782-2553, e-mail: rabold@afip.osd.mil.

SUPPLEMENTARY INFORMATION: General function of the board: The SAB provides scientific and professional advice and guidance on programs, policies and procedures of the AFIP.

Agenda: The Board will hear status reports from the AFIP Director, Principal Deputy Director, and each of the pathology sub-specialty departments, which the Board members will visit during the meeting.

Open board discussions: Reports will be presented on all visited departments. The reports will consist of findings, recommended areas of further research, improvement, and suggested solutions. New trends and/or technologies will be discussed and goals established. The meeting is open to the public.

Brenda S. Bowen,
Alternate Army Federal Register Liaison Officer.

[FR Doc. 04-7614 Filed 4-2-04; 8:45 am]

BILLING CODE 3710-08-M